DEPARTMENT OF AGRICULTURE

Animal and Plant Health Inspection Service

7 CFR Part 301

[Docket No. APHIS-2006-0081]

Japanese Beetle; Addition of Iowa to the List of Quarantined States

AGENCY: Animal and Plant Health Inspection Service, USDA.

ACTION: Affirmation of interim rule as final rule.

SUMMARY: We are adopting as a final rule, without change, an interim rule that amended the Japanese beetle quarantine and regulations by adding the State of Iowa to the list of quarantined States. That action was necessary to prevent the artificial spread of Japanese beetle into noninfested areas of the United States.

DATES: Effective on September 27, 2006, we are adopting as a final rule the interim rule that became effective on June 21, 2006.

FOR FURTHER INFORMATION CONTACT: Dr. S. Anwar Rizvi, Program Manager, Invasive Species and Pest Management, PPQ, APHIS, 4700 River Road Unit 134, Riverdale, MD 20737-1236; (301) 734-4313.

SUPPLEMENTARY INFORMATION:

Background

The Japanese beetle (Popillia japonica) feeds on fruits, vegetables, and ornamental plants and is capable of causing damage to over 300 potential hosts. The Japanese beetle quarantine and regulations, contained in 7 CFR 301.48 through 301.48-8 (referred to below as the regulations), quarantine the States of Alabama, Arkansas, Connecticut, Delaware, Georgia, Illinois, Indiana, Kentucky, Maine, Maryland, Massachusetts, Michigan, Minnesota, Missouri, New Hampshire, New Jersey, New York, North Carolina, Ohio, Pennsylvania, Rhode Island, South Carolina, Tennessee, Vermont, Virginia, West Virginia, Wisconsin, and the District of Columbia and restrict the interstate movement of aircraft from regulated airports in these States in order to prevent the artificial spread of the Japanese beetle to noninfested States where the Japanese beetle could become established (referred to as protected States). The list of quarantined States, as well as the list of protected States, can be found in § 301.48.

In an interim rule¹ effective and published in the Federal Register on June 21, 2006 (71 FR 35491-35493, Docket No. APHIS-2006-0081), we amended the regulations by adding Iowa to the list of quarantined States in § 301.48.

¹ To view the interim rule, go to http://www.regulations.gov, click on the “Advanced Search” tab, and select “Docket Search.” In the Docket ID field, enter APHIS-2006-0081, then click “Submit.” Clicking on the Docket ID link in the search results page will produce a list of all documents in the docket.

Comments on the interim rule were required to be received on or before August 21, 2006. We did not receive any comments. Therefore, for the reasons given in the interim rule, we are adopting the interim rule as a final rule.

This action also affirms the information contained in the interim rule concerning Executive Order 12866 and the Regulatory Flexibility Act, Executive Orders 12372 and 12988, and the Paperwork Reduction Act.

Further, for this action, the Office of Management and Budget has waived its review under Executive Order 12866.

List of Subjects in 7 CFR Part 301

Agricultural commodities, Plant diseases and pests, Quarantine, Reporting and recordkeeping requirements, Transportation.

PART 301—DOMESTIC QUARANTINE NOTICES

Accordingly, we are adopting as a final rule, without change, the interim rule that amended 7 CFR part 301 and that was published at 71 FR 35491-35493 on June 21, 2006.

Done in Washington, DC, this 21st day of September 2006.
Elizabeth E. Gaston,
Acting Administrator, Animal and Plant Health Inspection Service.

[FR Doc. E6-15899 Filed 9-26-06; 8:45 am]

BILLING CODE 3410-34-P